DEPARTMENT OF AGRICULTURE

Submission for OMB Review; Comment Request

March 3, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 7, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Foreign Quarantine Notices.

OMB Control Number: 0579-0049.

Summary of Collection: The Plant Protection Act (PPA) (Title IV, Pub. L. 106-224, 114 Statute 438, 7 U.S.C. 7701 et seq.) grants the Secretary of Agriculture authority to prohibit or restrict the importation, entry, exportation, or movement in interstate commerce of plant pests and other articles when such actions prevent the introduction or dissemination of plant pests into or within the United States. Implementing the laws described above is necessary in order to prevent injurious plant and insect pests from entering the United States, a situation that could produce serious consequences for USDA.

Regulations and subsequent requirements authorized by the PPA concerning the importation of fruits, vegetables, plants for planting, logs, lumber, unprocessed wood products, cotton, corn, rice, sugar cane, and coffee, are contained in Parts 319 and 352 of Title 7, Code of Federal Regulations (CFR). They require APHIS to collect information from a variety of foreign governments, businesses, and individuals, both within and outside of the United States, and provide the basis for the APHIS Plant Protection and Quarantine (PPQ) program's foreign quarantine notices. On a quarterly basis, APHIS will submit a report to the Office of Management and Budget that documents the burden imposed by import requirements for commodities covered by this information collection (fruits, vegetables, plants for planting, logs, lumber, unprocessed wood products, cotton, corn, rice, sugar cane, and coffee) that have been finalized within that quarterly period.

Need and Use of the Information: APHIS will collect information such as operational workplans; cooperative service agreements; trust funds; production or processing site/facility registrations; foreign site certification of inspection and/or treatment; applications for permits; appeals of denial or revocation of permits; requests for additional mailing labels; compliance agreements; phytosanitary certificates; labeling; importer documents; agreements for post entry quarantine State screening notices; 30-day article notifications; requests for emergency transshipment or diversion; notices of arrival; emergency action notifications; and monitoring/recordkeeping from responsible entities. In addition, APHIS will collect required information from national plant protection organizations as part of the commodity import approval process.

Description of Respondents: Businesses, Individuals and Households, Federal Government and State Governments.

Number of Respondents: 22,315.

Frequency of Responses: Reporting, Recordkeeping, Third-Party Disclosure: On occasion.

Total Burden Hours: 712,982.

Animal and Plant Health Inspection Service

Title: Nomination Request Form; Animal Disease Training.

OMB Control Number: 0579-0353.

Summary of Collection: The Animal Health Protection Act of 2002 is the primary Federal law governing the protection of animal health. The law gives the Secretary of Agriculture broad authority to detect, control, eradicate pests or diseases of livestock or poultry. The Animal and Plant Health Inspection Service (APHIS') Veterinary Services (VS) is responsible for administering regulations intended to prevent the introduction of animal diseases into the United States. VS Professional People Training (PPT) provides training on responses to animal disease events, sample collection procedures, and disease mitigation and eradication activities to private veterinarians and State, Tribal, military, international, industry, and university personnel. The courses are designed to prepare participants for activities dealing with a U.S. animal disease incident.

Need and Use of the Information: VS collects information using VS Form 1-5 from private veterinarians as well as State, Tribal, military, international, university, and industry personnel who want to attend PDS animal disease training. PPT requires the applicants' work addresses, work telephone numbers, work email addresses, agency/organization affiliations, supervisors' names and email addresses, and job titles. PPT uses this information to produce participant rosters after participants select courses and during training to encourage ongoing working relationships between course participants. Applicants submit the completed form (Web-based) before the PPT course date. The appropriate APHIS official selects applicants based on the need in their respective States for such trained personnel. VS Form 1-5 is subsequently sent to a PPT Program Specialist for processing.

Description of Respondents: Business or other for-profit; State, Local or Tribal Government.

Number of Respondents: 350.

Frequency of Responses: Reporting: On occasion.

Total Burden Hours: 116.

Animal and Plant Health Inspection Service

Title: Citrus Canker, Citrus Greening, and Asian Citrus Psyllid; Quarantine and Interstate Movement Regulations.

OMB Control Number: 0579-0363.

Summary of Collection: The Plant Protection Act (7 U.S.C. 7701 et seq.) authorizes the Secretary of Agriculture either independently or in cooperation with the States, to carry out operations or measures to detect, eradicate, suppress, control, prevent, or retard the spread of plant pests (such as citrus canker) new or widely distributed throughout the United States. In the “Domestic Quarantine Notices” in 7 CFR part 301, hereafter referred to as the regulations, the subpart “Citrus Canker” (§§ 301.75 through 301.75-17) and “Citrus Greening and Asian Citrus Psyllid” (§§ 301.76 through 301.76-11) provide the regulatory guidance for the presence of citrus canker (CC), citrus greening (CG) and Asian citrus psyllid (ACP). The regulations contained in 7 CFR 301.75 and 301.76 restrict the interstate movement of regulated articles from and through areas quarantined because of CC, CG and ACP.

Need and Use of the Information: The Animal and Plant Health Inspection Service (APHIS) will collect information using the following activity to address the risk associated with the interstate movement of citrus nursery stock and other regulated articles from areas quarantined for citrus greening: Limit Permit (PPO Form 530), Federal Certificate (PPO Form 540), Compliance Agreement (PPO Form 519), Labeling Requirements, Recordkeeping, Appeal of Cancellation of Certificates, Permits, and Compliance Agreements, and Emergency Action Notification (PPO Form 523). Failing to collect this information could cause a severe economic loss to the citrus industry.

Description of Respondents: Business or other for-profit.

Number of Respondents: 1,395.

Frequency of Responses: Recordkeeping; Reporting: On occasion; Third Party Disclosure.

Total Burden Hours: 364,697.

Ruth Brown,
Departmental Information Collection Clearance Officer.

[FR Doc. 2022-04906 Filed 3-7-22; 8:45 am]

BILLING CODE 3410-34-P